DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of April 2006.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of Section 222 have been met, and Section 246(a)(3)(A)(ii) of the Trade Act have been met.

TA-W-58,900; Plews and Edelmann, Division of Tomkins Industries, Inc., Dixon, IL: February 18, 2005

TA-W-58,938; Crenshaw Die and Mfg. Corporation, Irvine, CA: February 28, 2005

TA-W-58,952; Bartlett Corporation, Division of Trim Masters, Inc., Muncie, IN: March 2, 2005

TA-W-59,044; Spencer's, Inc., Mt. Airy, NC: October 1, 2005

TA-W-59,052; Array Hartland, Hartland, WI: March 7, 2005

TA-W-59,079; Warren Industries, Subsidiary of Mega Bloks, On-Site Leased Wkrs of Pro Resources and Adecco, Lafayette, IN: March 22, 2005

TA-W-59,084; Lady Ester Lingerie Corp., New York, NY: March 24, 2005

TA-W-59,090; Culp, Inc., Culp Weaving Plant, Graham, NC: March 27, 2005

TA-W-58,681; Atlas Spring Manufacturing Corp., On-Site Leased Wkrs of Cal-Staffing Select Personnel, Gardena, CA: January 10, 2005

TA-W-58,927; Magna Art Industries, Cape Girardeau, MO: February 20, 2005

TA-W-58,961; TDK Ferrites Corporation, Loaf Grinding and Loaf Pressing Department, Shawnee, OK: March 2, 2005

TA-W-58,992; Georgia Pacific Corp., Industrial Wood Productions Division, Gaylord, MI: March 9, 2005

TA-W-59,027; Kappler, Inc., Guntersville, AL: February 26, 2005

TA-W-59,030; Amital Spinning Corp., New Bern, NC: July 31, 2005

TA-W-59,075; Kolpin Outdoors, Inc., Fox Lake, WI: March 22, 2005

The following certifications have been issued. The requirements of (a)(2)(B) (shift in production) of Section 222 and Section 246(a)(3)(A)(ii) of the Trade Act have been met.

TA-W-58,755; Freightliner, LLC, A Subsidiary of DaimlerChrysler Corp., Portland, OR: January 30, 2005

TA-W-58,874; Hart and Cooley, H&C—Milcor, Lima, OH: February 20, 2005

TA-W-58,983; Hersey Meters, Register Department, Leased Wkrs of Ablest Staffing, Cleveland, NC: March 8, 2005

TA-W-59,065; Paris Accessories, Inc., Walnutport, PA: March 21, 2005

TA-W-59,076; Technicolor Universal Media Services LLC of America, Including On-Site Leased Wkrs of Westaff, Pinckneyville, IL: March 22, 2005

TA-W-59,117; Point Technologies, A Subsidiary of Angiotech Pharmaceuticals, Gibbon, MN: March 23, 2005

TA-W-58,798; Haworth Press, Inc. (The), Journal Division, West Hazleton, PA: February 6, 2005

TA-W-58,610; Copeland Corporation, Refrigeration Division, On-Site Leased Wkrs of Personal Services Unlimited, Shelby, NC: January 11, 2005

TA-W-58,905; Xycom Automatic, LLC, Saline, MI: February 16, 2005

TA-W-59,108; Dresser Rand, Steam Turbine Business Unit, Millbury, MA: March 28, 2005

The following certification has been issued. The requirement of supplier to a trade certified firm and Section 246(a)(3)(A)(ii) of the Trade Act have been met.

TA-W-58,908; Rhode Island Textile Co., South Carolina Elastics Division, Landrum, SC: February 7, 2005

TA-W-58,912; Boeing Company (The), Melbourne, AR: February 24, 2005

The following certification has been issued. The requirement of downstream producer to a trade certified firm and Section 246(a)(3)(A)(ii) of the Trade Act have been met.

Negative Determinations for Worker Adjustment Assistance

In the following cases, the investigation revealed that the criteria for eligibility have not been met for the reasons specified.

The investigation revealed that criterion (a)(2)(A)(I.A) and (a)(2)(B)(II.A) (no employment decline) has not been met.

None

The investigation revealed that criteria (a)(2)(A)(I.B.) (Sales or production, or both, did not decline) and (a)(2)(B)(II.B) (shift in production to a foreign country) have not been met.

TA-W-58,864; DSM Pharma Chemicals North America, Inc., South Haven, MI.

The investigation revealed that criteria (a)(2)(A)(I.C.) (increased imports) and (a)(2)(B)(II.B) (No shift in production to a foreign country) have not been met.

TA-W-58,739; American Sunroof Co., aka ASC Lansing, Lansing, MI.

TA-W-58,929; Milprint, Inc., A Division of Bemis Company, Denmark, WI.

TA-W-58,932; Craft-Co Enterprises, Inc., Morton, MS.

TA-W-58,937; Rexam, Inc., d//b/a Precise Technology, North Versailles, PA.

TA-W-59,003; Wonder Color Corporation, Inc., Vermillion, OH.

TA-W-59,053; Healthcard and Hospitality Products, Sebastian Furniture Co. Division, Barling, AR.

The investigation revealed that criteria (a)(2)(A)(I.C.) (Increased imports) and (a)(2)(B)(II.C) (has shifted production to a foreign country) have not been met.

TA-W-58,561; Lustrik Corporation, Philadelphia, PA.

TA-W-58,832; Honeywell Electronic Materials, A Subsidiary of Honeywell International, Electronic Materials Division, Spokane Valley, WA.

TA-W-59,016; Harve Benard, LTD, Pattern Department, Clifton, NJ.

The workers firm does not produce an article as required for certification under Section 222 of the Trade Act of 1974.

TA-W-58,920; Rutgers Organics Corporation, State College, PA.

TA-W-58,935; WSW Company of Sharon, Inc., Subsidiary of Wormser Co., Sharon, TN.

TA-W-58,988; Orlandi Valuta, A Subdivision of First Data Corp., Cerritos, CA.

TA-W-59,037; Delta Airlines, Technical Operations, Hartsfield-Jackson Atlanta International Airport, Atlanta, GA.

TA-W-59,045; Newstech NY, Newton Falls, NY.

TA-W-59,060; Lollytogs Ltd., Greensboro, NC.

TA-W-59,063; McLeod USA Telecommunications Services, Inc., A Subsidiary of McLeodusa, Inc., Springfield, MO.

TA-W-59,071; Ucar Carbon Company, Inc., Graftech International Ltd. Co., Corporate Headquarters, Wilmington, DE.

The investigation revealed that criteria (2) has not been met. The workers firm (or subdivision) is not a supplier or downstream producer to trade-affected companies.

TA-W-59,059; Flex-N-Gate Oklahoma, Ada, OK.

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-58,864; DSM Pharma Chemicals North America, Inc., South Haven, MI.

TA-W-58,739; American Sunroof Co., aka ASC Lansing, Lansing, MI.

TA-W-58,929; Milprint, Inc., A Division of Bemis Company, Denmark, WI.

TA-W-58,932; Craft-Co Enterprises, Inc., Morton, MS.

TA-W-58,937; Rexam, Inc., d//b/a Precise Technology, North Versailles, PA.

TA-W-59,003; Wonder Color Corporation, Inc., Vermillion, OH.

TA-W-59,053; Healthcard and Hospitality Products, Sebastian Furniture Co. Division, Barling, AR.

TA-W-58,561; Lustrik Corporation, Philadelphia, PA.

TA-W-58,832; Honeywell Electronic Materials, A Subsidiary of Honeywell International, Electronic Materials Division, Spokane Valley, WA.

TA-W-59,016; Harve Benard, LTD, Pattern Department, Clifton, NJ.

TA-W-58,920; Rutgers Organics Corporation, State College, PA.

TA-W-58,935; WSW Company of Sharon, Inc., Subsidiary of Wormser Co., Sharon, TN.

TA-W-58,988; Orlandi Valuta, A Subdivision of First Data Corp., Cerritos, CA.

TA-W-59,037; Delta Airlines, Technical Operations, Hartsfield-Jackson Atlanta International Airport, Atlanta, GA.

TA-W-59,045; Newstech NY, Newton Falls, NY.

TA-W-59,060; Lollytogs Ltd., Greensboro, NC.

TA-W-59,063; McLeod USA Telecommunications Services, Inc., A Subsidiary of McLeodusa, Inc., Springfield, MO.

TA-W-59,071; Ucar Carbon Company, Inc., Graftech International Ltd Co., Corporate Headquarters, Wilmington, DE.

TA-W-59,059; Flex-N-Gate Oklahoma, Ada, OK.

The Department has determined that criterion (1) of Section 246 has not been met. Workers at the firm are 50 years of age or older.

TA-W-59,117; Point Technologies, A Subsidiary of Angiotech Pharmaceuticals, Gibbon, MN.

The Department has determined that criterion (2) of Section 246 has not been met. Workers at the firm possess skills that are easily transferable.

TA-W-58,681; Atlas Spring Manufacturing Corp., On-Site Leased Workers of Cal-Staffing Select Personnel, Gardena, CA.

The Department has determined that criterion (3) of Section 246 has not been met. Competition conditions within the workers' industry are not adverse.

None

I hereby certify that the aforementioned determinations were issued during the month of April 2006. Copies of these determinations are available for inspection in Room C-5311, U.S. Department of Labor, 200 Constitution Avenue, NW., Washington, DC 20210 during normal business hours or will be mailed to persons who write to the above address.

Dated: April 11, 2006.
Erica R. Cantor,
Director, Division of Trade Adjustment Assistance.

[FR Doc. E6-5768 Filed 4-17-06; 8:45 am]

BILLING CODE 4510-30-P